DEPARTMENT OF HEALTH AND HUMAN SERVICES

Food and Drug Administration

Food Safety and Defense . . . Be ALERT; Public Workshop

AGENCY: Food and Drug Administration, HHS.

ACTION: Notice of public workshop.

SUMMARY: The Food and Drug Administration (FDA), Office of Regulatory Affairs (ORA), Atlanta District and Southeast Regional Office (SER), in collaboration with Georgia Food Safety and Defense Task Force, and the Metro Environmental Health Directors Food Service Advisory Committee, is announcing a public workshop entitled “Food Safety and Defense . . . Be ALERT!” This public workshop will provide information about how to control foodborne illness risk factors and how to secure food from intentional contamination (food defense awareness). The target audience will be operators of small, independent (non-chain) retail and food service establishments.

Date and Time: This public workshop will be held on Wednesday, August 15, 2007, from 9 a.m. to 3 p.m.

Location: The public workshop will be held at the Hilton Atlanta Northeast Hotel, 5993 Peachtree Industrial Blvd., Norcross, GA.

Contact: JoAnn Pittman, Food and Drug Administration, Atlanta District, Southeast Region, 60 8th St., NE., Atlanta, GA 30309, 404-253-1272, FAX: 404-253-1202, or e-mail: JoAnn.Pittman@fda.hhs.gov.

Registration is at no charge: The registration deadline is August 1, 2007; please see instructions in this document. Those accepted into the workshop will receive confirmation. Registration at the site is not guaranteed but, may be possible on a space available basis (100 maximum) on the day of the public workshop beginning at 9 a.m. If you need special accommodations due to a disability, please contact JoAnn Pittman (see Contact) at least 7 days in advance.

Registration Form Instructions: To register, please complete the registration form in this document and submit to “ Food and Drug Administration, Attn: Dan Redditt, 60 8th St., NE.. Atlanta, GA 30309.” We encourage you to fax the completed registration form to: 404-253-2257 or 404-253-1202. To obtain a copy of the registration form, please contact: Dan Redditt at 404-253-1265 or via e-mail at joseph.redditt@fda.hhs.gov.

Food Safety and Defense . . . Be ALERT! Public Workshop Registration Form
Name: |
Affiliation: |
Mailing Address: |
City/State/Zip Code: |
Phone: |
Fax: |
E-mail: |
Special Accommodations Required: |

Transcripts: Transcripts of the public workshop will not be available due to the format of this workshop. Workshop handouts may be requested at cost through the Freedom of Information Office (HFI-35), Food and Drug Administration, 5600 Fishers Lane, rm. 12A-16, Rockville, MD 20857, approximately 15 working days after the public workshop at a cost of 10 cents per page.

SUPPLEMENTARY INFORMATION: This public workshop is being held in response to the large volume of food safety and food defense concerns from FDA-regulated products in facilities, such as manufacturers, processors, distributors, retailers, and restaurants, originating from the area covered by the FDA, Atlanta District, Southeast Region. The Atlanta District, Southeast Region presents this workshop to help achieve objectives set forth in section 406 of the Food and Drug Administration Modernization Act of 1997 (21 U.S.C. 393), which include working closely with stakeholders and maximizing the availability and clarity of information to stakeholders and the public. This is consistent with the purposes of the Retail Food Specialists and Public Affairs Specialists, which are in part to respond to industry inquiries, develop educational materials, sponsor workshops and conferences to provide firms, particularly small businesses, with firsthand working knowledge of FDA's guidance, requirements, and compliance policies. This workshop is also consistent with the Small Business Regulatory Enforcement Fairness Act of 1996 (Public Law 104-121) as outreach activities by Government agencies to small businesses.

The purpose of this workshop is to increase the knowledge of operators of small, independent, retail and food service establishments relative to food safety and food defense principles and to increase the application of these principles in their respective operations. The workshop will also present information that will enable food facilities, manufacturers, processors, distributors, retailers, and restaurants, to better comply with the regulations authorized by the Public Health Security and Bioterrorism Preparedness and Response Act of 2002 (the Bioterrorism Act), and with food safety and food defense guidance, especially in light of growing concerns about food defense. Information presented will be based on the agency position as articulated through regulation, guidance, and information previously made available to the public. Topics to be discussed at the workshop include: (1) Pre-Workshop Assessment, (2) The Headline You Don't Want to Make, (3) Tools for Keeping Your Food Safe—Interactive Demonstrations, (4) Be A.L.E.R.T. to Terrorism: Keeping Your Foods Secure, and (5) Making the Commitment (Post-Workshop Assessment), and Q and A.

FDA expects that participation in this public workshop will provide industry with greater understanding of the regulatory and guidance perspectives on food safety and food defense and increase voluntary compliance and food defense awareness.

Dated: July 16, 2007.
Jeffrey Shuren,
Assistant Commissioner for Policy.

[FR Doc. E7-14045 Filed 7-19 -07; 8:45 am]

BILLING CODE 4160-01-S